DEPARTMENT OF ENERGY

Federal Energy Regulatory Commission

Combined Notice of Filings #1

Take notice that the Commission received the following electric rate filings:

Docket Numbers: ER11-4158-001.

Applicants: Entergy Arkansas, Inc.

Description: Compliance Filing ER11-4158 to be effective 9/27/2011.

Filed Date: 12/9/11.

Accession Number: 20111209-5217.

Comments Due: 5 p.m. ET 12/30/11.

Docket Numbers: ER11-4416-001.

Applicants: Entergy Power, LLC.

Description: ER11-4416 Compliance Filing to be effective 11/1/2011.

Filed Date: 12/9/11.

Accession Number: 20111209-5197.

Comments Due: 5 p.m. ET 12/30/11.

Docket Numbers: ER12-347-001.

Applicants: DB Energy Trading LLC.

Description: December 9, 2011 Amendment Filing to be effective 11/4/2011.

Filed Date: 12/9/11.

Accession Number: 20111209-5218.

Comments Due: 5 p.m. ET 12/30/11.

Docket Numbers: ER12-585-000.

Applicants: BE Louisiana LLC.

Description: Compliance Filing to be effective 12/9/2011.

Filed Date: 12/9/11.

Accession Number: 20111209-5209.

Comments Due: 5 p.m. ET 12/30/11.

Docket Numbers: ER12-586-000.

Applicants: Cedar Brakes I, LLC.

Description: Compliance Filing to be effective 12/9/2011.

Filed Date: 12/9/11.

Accession Number: 20111209-5210.

Comments Due: 5 p.m. ET 12/30/11.

Docket Numbers: ER12-587-000.

Applicants: Cedar Brakes II, LLC.

Description: Compliance Filing to be effective 12/9/2011.

Filed Date: 12/9/11.

Accession Number: 20111209-5213.

Comments Due: 5 p.m. ET 12/30/11.

Docket Numbers: ER12-588-000.

Applicants: Utility Contract Funding, LLC.

Description: Compliance Filing to be effective 12/9/2011.

Filed Date: 12/9/11.

Accession Number: 20111209-5216.

Comments Due: 5 p.m. ET 12/30/11.

Docket Numbers: ER12-589-000.

Applicants: Southern California Edison Company.

Description: Radial Lines Agreement Mojave Solar Project—Mojave Solar, LLC to be effective 2/8/2012.

Filed Date: 12/9/11.

Accession Number: 20111209-5232.

Comments Due: 5 p.m. ET 12/30/11.

Docket Numbers: ER12-590-000.

Applicants: Public Service Company of New Mexico.

Description: Public Service Company of New Mexico requests waiver of Section 6.2.1 to the Second Revised Network Integration Transmission Service Agreement with Incorporated County of Las Alamos, New Mexico.

Filed Date: 12/9/11.

Accession Number: 20111209-5273.

Comments Due: 5 p.m. ET 12/30/11.

Take notice that the Commission received the following electric securities filings:

Docket Numbers: ES12-10-000.

Applicants: Kansas Gas and Electric Company.

Description: Application of Kansas Gas and Electric Company for authority under Section 204 of the Federal Power Act to issue securities and pledge mortgage bonds to secure such securities.

Filed Date: 12/9/11.

Accession Number: 20111209-5271.

Comments Due: 5 p.m. ET 12/30/11.

Docket Numbers: ES12-11-000.

Applicants: Kansas Gas and Electric Company.

Description: Application of Kansas Gas and Electric Company under Section 204 to issue and pledge securities and to issue guarantees to secure certain indebtedness of its sole shareholder.

Filed Date: 12/9/11.

Accession Number: 20111209-5272.

Comments Due: 5 p.m. ET 12/30/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2011.
Nathaniel J. Davis, Sr.,
Deputy Secretary.

[FR Doc. 2011-32402 Filed 12-16-11; 8:45 am]

BILLING CODE 6717-01-P